DEPARTMENT OF LABOR

Employment and Training Administration

[TA-W-65,282]

Grand Rapids Controls Company, LLC, a Subsidiary of Charlton Group, Incorporated, Rockford, MI; Notice of Termination of Investigation

Pursuant to Section 221 of the Trade Act of 1974, as amended, an investigation was initiated on February 18, 2009 in response to a petition filed by a company official on behalf of workers of Grand Rapids Controls Company, LLC, a subsidiary of Charlton Group, Incorporated, Rockford, Michigan.

The petitioner has requested that the petition be withdrawn. Consequently, the investigation has been terminated.

Signed at Washington, DC, this 24th day of March 2009.
Elliott S. Kushner,
Certifying Officer, Division of Trade Adjustment Assistance.

[FR Doc. E9-8283 Filed 4-10-09; 8:45 am]

BILLING CODE 4510-FN-P